FEDERAL ACCOUNTING STANDARDS ADVISORY BOARD

Notice of Release of the Exposure Draft Revisions to Identifying and Reporting Earmarked Funds: Amending Statement of Federal Financial Accounting Standards 27

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has released the Exposure Draft Revisions to Identifying and Reporting Earmarked Funds: Amending Statement of Federal Financial Accounting Standards 27.

The Exposure Draft is available on the FASAB home page http://www.fasab.gov/board-activities/documents-for-comment/exposure-drafts-and-documents-for-comment/. Copies can be obtained by contacting FASAB at (202) 512-7350.

Respondents are encouraged to comment on any part of the exposure draft. Written comments on the Exposure Draft are requested by August 22, 2011. Comments on the Exposure Drafts should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Pubic Law 92-463.

Dated: June 23, 2011.
Charles Jackson,
Federal Register Liaison Officer.

[FR Doc. 2011-16215 Filed 6-28-11; 8:45 am]

BILLING CODE 1610-02-P